CORPORATION FOR NATIONAL AND COMMUNITY SERVICE

Notice of Availability of Funds for Next Generation Grants

AGENCY: Corporation for National and Community Service.

ACTION: Notice of funding availability.

SUMMARY: The Corporation for National and Community Service (hereinafter the “Corporation”) announces the availability of approximately $4,000,000 to award Next Generation Grants to eligible nonprofit organizations. The purpose of these grants is to foster the next generation of national service organizations by providing seed money to help new and start-up organizations, and established organizations proposing new projects or programs, plan and implement new service programs that have the potential of becoming national in scope. These funds are available under authority provided in Pub. L. 108-7, the Omnibus Appropriations Act for fiscal year 2003.

These grants will fund innovative strategies to effectively engage volunteers in service, which result in measurable outcomes to beneficiaries and participants. We are seeking innovative models that fall under at least one of three service areas: Programs that engage individuals in an intensive commitment to service in communities (defined as serving at least 40 hours per week); volunteer programs for seniors (age 55+); and programs that connect service with education. Organizations may focus on various issue areas including, but not limited to: Education, environment, health and human services, homeland security, public safety, or other critical areas.

Eligible applicants for this funding are nonprofit charitable organizations, such as public charities, community organizations (faith-based and secular), private foundations, and individual schools. Applicants other than individual schools generally will have an annual operating budget of $500,000 or less. We encourage submissions from community organizations (faith-based and secular) and from organizations with little or no experience with federal grants, where our investment could dramatically increase community involvement in service. Applicants cannot have received a previous grant award from the Corporation. Applicants must also be able to develop programs that have the potential for becoming national in scope, or provide a compelling statement that the model could be replicated in other locations.

Note: This Notice is not a complete description of the activities to be funded or of the application requirements. For supplementary information and concept paper guidelines go to the Corporation's Web site at http://www.cns.gov/whatshot/notices.html. Any future updates, and additional guidance on 2004 living allowance parameters, will also be posted at the Corporation's Web site.

DATES: The Corporation must receive your concept paper, budget, IRS form 990, and a completed Survey Ensuring Equal Opportunity for Applicants by 5 p.m. e.s.t. on November 17, 2003. The Corporation will not consider concept papers, budgets, survey's, or IRS form 990's received after this date.

ADDRESSES: Your concept paper, budget, and other items should be submitted by paper. Paper submissions (and an electronic version of the same concept paper and budget on a 3.5″ diskette in Microsoft Word or a text format or on CD-Rom) must be sent to the following address: Corporation for National and Community Service, 1201 New York Avenue, NW., Box NGG, Washington, DC 20525. Due to delays in delivery of regular mail to government offices, there is no guarantee that a paper submission sent by regular mail will arrive in time for consideration. Thus, we suggest that, when submitting your documents, you use USPS priority mail or a commercial overnight delivery service to ensure timely submission. We will not accept concept papers, budgets, survey's, or IRS form 990's submitted via facsimile or e-mail.

FOR FURTHER INFORMATION CONTACT: Shanika Ratliff at (202) 606-5000 ext. 408 or at nextgeneration@cns.gov. The TDD number is 202-565-2799. For a printed copy of this notice, the supplementary information guidelines, and concept paper instructions (also available on-line) contact Shanika Ratliff. Upon request, this information will be made available in alternate formats for people with disabilities.

There will be a series of technical assistance conference calls to answer questions arising under this announcement. The dates and times for these calls are: September 24, 2003, from 2-4 p.m. e.d.t.; October 9, 2003, from 2-4 p.m. e.d.t.; and, November 3, 2003, from 2-4 p.m. e.s.t. The dial-in number is 1-888-793-1858 and the pass code is “next generat.” We strongly encourage all potential applicants to be present on one of these calls. Availability is limited to the first 125 participants.

Dated: September 10, 2003.
David Reingold,
Director, Department of Research and Policy Development.

[FR Doc. 03-23525 Filed 9-15-03; 8:45 am]

BILLING CODE 6050-$$-P